DEPARTMENT OF THE INTERIOR

Office of the Secretary

Draft WaterSMART Cooperative Watershed Management Program Funding Opportunity Announcement

AGENCY: Office of the Assistant Secretary for Water and Science, Interior.

ACTION: Notice of availability and request for comments.

SUMMARY: We are seeking comments on a draft announcement of funding that will be available for establishing or expanding an existing watershed group. The funding is part of the Cooperative Watershed Management Program whose goals are to improve water quality and ecological resilience and to reduce conflicts over water by managing local watersheds through collaborative conservation. We plan to publish a final announcement as soon as possible after the close of the comment period.

DATES: Submit written comments on or before December 5, 2011.

ADDRESSES: Send written comments to Ms. Avra Morgan, Bureau of Reclamation, Office of Policy and Administration 84-51000, P.O. Box 25007, Denver, Colorado 80225; or email aomorgan@usbr.gov. The draft funding announcement is available at: http://www.usbr.gov/WaterSMART/cwmp/.

FOR FURTHER INFORMATION CONTACT: Avra Morgan, Bureau of Reclamation, (303) 445-2906, aomorgan@usbr.gov.

SUPPLEMENTARY INFORMATION: The draft funding announcement on which we are requesting comments is part of the Department's WaterSMART Cooperative Watershed Management Program. When published in final after we evaluate comments received, the announcement will inform eligible applicants that funding is available to establish a watershed group or expand an existing watershed group. This notice summarizes the main elements of the draft announcement. You can view the complete announcement at http://www.usbr.gov/WaterSMART/cwmp/.

Secretary of the Interior Ken Salazar established the WaterSMART Program in February 2010. The WaterSMART program provides funding to watershed groups to encourage diverse stakeholders to work together to address their local watershed needs. Through this program, we provide Federal leadership and assistance on;

• Efficient use of water;

• Integrating water and energy policies to support sustainable use of natural resources;

• Forming strong, diverse partnerships with States, tribes, and local entities; and

• Coordinating water conservation activities among all Department bureaus and offices.

The Nation faces an increasing set of water resource challenges. Aging infrastructure, rapid population growth, depletion of groundwater resources, impaired water quality associated with particular land uses and land covers, water needed for human and environmental uses, and climate variability and change all play a role in determining the amount of fresh water available at any given place and time. Water shortage and water-use conflicts have become more commonplace in many areas of the United States, even in normal water years. As competition for water resources grows—for irrigation of crops, growing cities and communities, energy production, and the environment—the need for information and tools to aid water resource managers also grows.

Included below is a summary of the main provisions of this draft funding announcement.

Applicant Eligibility

Applicants eligible for funding to establish a watershed group include States, tribes, local and special districts (e.g., irrigation and water districts, county soil conservation districts, etc.), local governmental entities, and non-profit organizations. To be eligible, applicants must:

• Significantly affect or be affected by the quality or quantity of water in a watershed;

• Be capable of promoting the sustainable use of water resources; and

• Be located in the western United States or Territories as identified in the Reclamation Act of June 17, 1902, as amended and supplemented.

Individuals, universities, for-profit organizations or companies, and Federal agencies are not eligible for Cooperative Watershed Management Program funding.

To be eligible for funding to expand a watershed group, the applicant must:

• Be a grassroots, non-regulatory entity that is legally incorporated within the state in which it operates;

• Address water availability and quality issues within the relevant watershed; and

• Otherwise meet the definition of a “watershed group” as described in the draft funding announcement.

Funding

Applicants must use funds awarded under the announcement to establish or expand a watershed group; develop a mission statement; develop project concepts; and develop a restoration plan. Applicants may request up to $50,000 in Federal funds each year, for a period of up to 2 years. A non-Federal cost-share is not required. Second-year funding will be awarded to applicants that demonstrate sufficient progress throughout the year, contingent on availability of appropriations. An equal number of awards will be made available to applicants under each task area, contingent on demand.

Criteria

The funding criteria under the announcement will prioritize proposals that represent a maximum diversity of interests; serve a broad geographic scope; are expected to address critical watershed needs; include activities aligned with a state water plan; demonstrate active participation in a Landscape Conservation Cooperative or integration of the mission and goals of a particular Landscape Conservation Cooperative into the proposed activities; and include a proposed schedule and milestones that are reasonable and appropriate.

The criteria identified within the draft funding announcement will assist us in fulfilling the goals of the program by collaboratively improving water quality and ecological resilience, and reducing conflicts over water at the watershed level.

Public Disclosure

We seek comments and suggestions for improvement to any of the provisions summarized above or on any other elements of the draft announcement.

Before including your name, address, phone number, email address, or other personal identifying information in your comment, you should be aware that your entire comment—including your personal identifying information—may be made publicly available at any time. While you can ask us in your comment to withhold your personal identifying information from public review, we cannot guarantee that we will be able to do so.

Dated: October 21, 2011.
Anne J. Castle,
Assistant Secretary for Water and Science.

[FR Doc. 2011-28576 Filed 11-3-11; 8:45 am]

BILLING CODE 4310-MN-P